COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be furnished by nonprofit agencies employing persons who are blind or have other severe disabilities, and deletes services previously furnished by such agencies.

DATES: Comments must be received on or before: January 19, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed addition, the entities of the Federal Government identified in this notice will be required to procure the service listed below from nonprofit agencies employing persons who are blind or have other severe disabilities.

The following service is proposed for addition to the Procurement List for production by the nonprofit agencies listed:

Service Type: IT Service Desk Operations

Mandatory for: U.S. Army Human Resources Command, Fort Knox, KY

Mandatory Source of Supply: InspiriTec, Inc., Philadelphia, PA

Contracting Activity: W6QM MICC-FT KNOX

Deletions

The following services are proposed for deletion from the Procurement List:

Services

Service Type: Custodial service

Mandatory for: DISA DECC Pacific, 1942 Gaffney Street, Suite 200, Pearl Harbor Naval Station, HI

Mandatory Source of Supply: Opportunities and Resources, Inc., Wahiawa, HI

Contracting Activity: DEFENSE INFORMATION SYSTEMS AGENCY (DISA), IT CONTRACTING DIVISION—PL83

Service Type: Microfilming

Mandatory for: Government Printing Office: Program B510-S, Washington, DC

Mandatory Source of Supply: Alliance, Inc., Baltimore, MD

Contracting Activity: Government Printing Office

Service Type: Janitorial/Custodial

Mandatory for: VA Outpatient Clinic, Allentown, PA

Mandatory Source of Supply: Via of the Lehigh Valley, Inc., Bethlehem, PA

Contracting Activity: VETERANS AFFAIRS, DEPARTMENT OF, NAC

Service Type: Mailing Services

Mandatory for: U.S. Department of Interior: Bureau of Land Management, Oregon State Office, Portland, OR

Mandatory Source of Supply: Relay Resources, Portland, OR

Contracting Activity: BUREAU OF LAND MANAGEMENT, OR—OREGON STATE OFFICE

Service Type: Cleaning Services

Mandatory for: Laguna Atascosa NWR, Rio Hondo, TX

Mandatory Source of Supply: Training, Rehabilitation, & Development Institute, Inc., San Antonio, TX

Contracting Activity: OFFICE OF POLICY, MANAGEMENT, AND BUDGET, NBC ACQUISITION SERVICES DIVISION

Service Type: Janitorial/Custodial

Mandatory for: Department of the Treasury: Birmingham Regional Financial Center, Birmingham, AL

Mandatory Source of Supply: Alabama Goodwill Industries, Inc., Birmingham, AL

Contracting Activity: TREASURY, DEPARTMENT OF THE, DEPT OF TREAS/

Service Type: Document Destruction

Mandatory for: Social Security Administration: 600 West Madison St., Chicago, IL

Mandatory Source of Supply: Goodwill Industries of Southeastern Wisconsin, Inc—Deleted, Milwaukee, WI

Contracting Activity: SOCIAL SECURITY ADMINISTRATION, REGION 05—RELOCATIONS

Service Type: Grounds Maintenance

Mandatory for: USCG, Chief of Staff Quarters, Bethesda, MD

Mandatory for: USCG, Commandant Quarters, Kenwood, MD

Mandatory for: USCG, Vice Commandant Quarters, Bethesda, MD

Mandatory Source of Supply: The Arc of Montgomery County, Inc., Rockville, MD

Contracting Activity: U.S. COAST GUARD, U.S. COAST GUARD

Patricia Briscoe,
Deputy Director, Business Operations (Pricing and Information Management).

[FR Doc. 2019-27470 Filed 12-19-19; 8:45 am]

BILLING CODE 6353-01-P